DEPARTMENT OF TRANSPORTATION

National Highway Traffic Safety Administration

Petition for Exemption From the Federal Motor Vehicle Theft Prevention Standard; DaimlerChrysler

AGENCY: National Highway Traffic Safety Administration (NHTSA), Department of Transportation (DOT).

ACTION: Grant of petition for exemption.

SUMMARY: This document grants in full the petition of DaimlerChrysler Corporation (DaimlerChrysler) for an exemption of a high-theft line, the Dodge Charger, from the parts-marking requirements of the Federal Motor Vehicle Theft Prevention Standard. This petition is granted because the agency has determined that the antitheft device to be placed on the line as standard equipment is likely to be as effective in reducing and deterring motor vehicle theft as compliance with the parts-marking requirements of the Theft Prevention Standard.

DATES: The exemption granted by this notice is effective beginning with model year (MY) 2007.

FOR FURTHER INFORMATION CONTACT: Ms. Rosalind Proctor, Office of International Policy, Fuel Economy and Consumer Programs, NHTSA, 400 Seventh Street, SW., Washington, DC 20590. Ms. Proctor's phone number is (202) 366-0846. Her fax number is (202) 493-2290.

SUPPLEMENTARY INFORMATION: In a petition dated March 30, 2005, DaimlerChrysler requested an exemption from the parts-marking requirements of the theft prevention standard (49 CFR part 541) for the Dodge Charger vehicle line. The petition has been filed pursuant to 49 CFR part 543, Exemption from Vehicle Theft Prevention Standard, based on the installation of an antitheft device as standard equipment for an entire vehicle line. DaimlerChrysler's submission is considered a complete petition as required by 49 CFR 543.7, in that it meets the general requirements contained in § 543.5 and the specific content requirements of § 543.6. Under § 543.5(a), a manufacturer may petition NHTSA to grant exemptions for one line of its vehicle lines per year.

DaimlerChrysler stated that all Dodge Charger vehicles would be equipped with a standard Sentry Key Immobilizer System (SKIS) antitheft device. In its petition, DaimlerChrysler provided a detailed description and diagram of the identity, design, and location of the components of the antitheft device for the vehicle line. The SKIS antitheft device to be installed on the Dodge Charger is a transponder-based, passive immobilizer antitheft device designed to provide protection against unauthorized vehicle use. The immobilizer feature is activated when the key is removed from the ignition switch. Once activated, only a valid key inserted into the ignition switch will disable immobilization and allow the vehicle to start and continue to run. The antitheft device does not provide any visible or audible indication of unauthorized entry by means of flashing vehicle lights or sounding of the horn.

The SKIS consists of the Sentry Key Remote Entry Module (SKREEM), the Powertrain Control Module (PCM), and the Sentry Key, which collectively perform the immobilizer function. The SKREEM is the primary component of the SKIS. When the ignition switch is turned to the “ON” position, the SKREEM transmits a radio frequency (RF) signal to the transponder in the ignition key. If the response received identifies the key as valid, the SKREEM sends a valid key message to PCM over the PCI data bus, and the PCM allows the engine to continue to run. To avoid any perceived delay when starting the vehicle with a valid key and to prevent unburned fuel from entering the exhaust, the engine is permitted to run for no more than 2 seconds if an invalid key is used. If the response identifies the key as invalid, or if no response is received from the key transponder, the SKREEM sends an invalid key message to the PCM. The PCM will disable engine operation (after the initial 2 second run) based upon the status of the SKREEM messages.

According to DaimlerChrysler, each ignition key used in the antitheft device has an integral transponder chip included on the circuit board. The ignition key must be cut to match the mechanical coding of the ignition lock cylinder and programmed for operation of the Remote Keyless Entry (RKE) system. Additionally, each new key is programmed with a unique transponder identification code by the manufacturer and must be recognized by the SKREES as a valid key. The Sentry Key transponder cannot be adjusted or repaired. If it is faulty or damaged, the entire key and RKE must be replaced.

In addressing the specific content requirements of § 543.6, DaimlerChrysler provided information on the reliability and durability of its device. To ensure the reliability and durability of the device, it conducted tests based on its own specified standards. DaimlerChrysler provided information on tests conducted and believes that the device is reliable and durable since the device complied with its specified requirements for each test. DaimlerChrysler stated that all of the devices undergo a series of three functional tests prior to being shipped from the supplier to the vehicle assembly plant for installation in the vehicles. Additionally, the antitheft device incorporates an indicator light to convey information on the status of the system to the customer.

DaimlerChrysler believes that the immobilizer system proposed for the Dodge Charger will be at least as effective as compliance with the parts-marking requirements of the theft prevention standard. DaimlerChrysler stated that its experience with vehicles subject to the parts-marking requirement that are subsequently equipped with ignition immobilizer systems as standard equipment indicate that even lower theft rates can be expected from vehicles equipped with standard ignition immobilizer systems as that proposed.

For supportive purposes, DaimlerChrysler offered the Jeep Grand Cherokee vehicles as an example of vehicles subject to part 541 parts-marking requirements that subsequently are equipped with ignition immobilizer systems as standard equipment. NHTSA's theft rates for the Jeep Grand Cherokee vehicles for model years 1995 through 1998 were 5.5545, 7.0188, 4.3163, and 4.3557, respectively, all significantly higher than the 1990/1991 median theft rate. DaimlerChrysler indicated that, since the introduction of immobilizer systems as standard equipment on the Jeep Grand Cherokee vehicles, the average theft rate for the MY 1999 through 2003 is 2.6537, which is significantly lower than the 1990/1991 median theft rate of 3.5826. The Jeep Grand Cherokee vehicles were granted an exemption from the parts-marking requirements beginning with MY 2004 vehicles.

On the basis of this comparison, DaimlerChrysler has concluded that the proposed antitheft device is no less effective than those devices installed on lines for which NHTSA has already granted full exemption from the parts-marking requirements.

Based on the evidence submitted by DaimlerChrysler, the agency believes that the antitheft device for the Dodge Charger vehicle line is likely to be as effective in reducing and deterring motor vehicle theft as compliance with the parts-marking requirements of the Theft Prevention Standard (49 CFR 541). The agency concludes that the device will provide four of the five types of performance listed in § 543.6(a)(3): Promoting activation; attracting attention to the efforts of unauthorized persons to enter or operate a vehicle by means other than a key; preventing defeat or circumvention of the device by unauthorized persons; preventing operation of the vehicle by unauthorized entrants; and ensuring the reliability and durability of the device.

As required by 49 U.S.C. 33106 and 49 CFR 543.6 (a)(4) and (5), the agency finds that DaimlerChrysler has provided adequate reasons for its belief that the antitheft device will reduce and deter theft. This conclusion is based on the information DaimlerChrysler provided about its device. For the foregoing reasons, the agency hereby grants in full DaimlerChrysler petition for exemption for the vehicle line from the parts-marking requirements of 49 CFR part 541.

If DaimlerChrysler decides not to use the exemption for this line, it must formally notify the agency, and, thereafter, the line must be fully marked as required by 49 CFR 541.5 and 541.6 (marking of major component parts and replacement parts).

NHTSA notes that if DaimlerChrysler wishes in the future to modify the device on which this exemption is based, the company may have to submit a petition to modify the exemption.

Part 543.7(d) states that a part 543 exemption applies only to vehicles that belong to a line exempted under this part and equipped with the anti-theft device on which the line's exemption is based. Further, § 543.9(c)(2) provides for the submission of petitions “to modify an exemption to permit the use of an antitheft device similar to but differing from the one specified in that exemption.”

The agency wishes to minimize the administrative burden that § 543.9(c)(2) could place on exempted vehicle manufacturers and itself. The agency did not intend part 543 to require the submission of a modification petition for every change to the components or design of an antitheft device. The significance of many such changes could be de minimis. Therefore, NHTSA suggests that if the manufacturer contemplates making any changes the effects of which might be characterized as de minimis, it should consult the agency before preparing and submitting a petition to modify.

Authority: 49 U.S.C. 33106; delegation of authority at 49 CFR 1.50.

Issued on: November 10, 2005.
Stephen R. Kratzke,
Associate Administrator for Rulemaking.

[FR Doc. 05-23035 Filed 11-21-05; 8:45 am]

BILLING CODE 4910-59-P